DEPARTMENT OF HEALTH AND HUMAN SERVICES

Food and Drug Administration

[Docket No. 2007P-0149]

Canned Pacific Salmon Deviating From Identity Standard; Temporary Permit for Market Testing

AGENCY: Food and Drug Administration, HHS.

ACTION: Notice.

SUMMARY: The Food and Drug Administration (FDA) is announcing that a temporary permit has been issued to Peter Pan Seafoods, Inc., to market test canned Pacific salmon that deviates from the U.S. standard of identity for canned Pacific salmon. The purpose of the temporary permit is to allow the applicant to measure consumer acceptance of the product and assess commercial feasibility.

DATES: This permit is effective for 15 months, beginning on the date the permit holder introduces or causes the introduction of the test product into interstate commerce, but not later than July 27, 2007.

FOR FURTHER INFORMATION CONTACT: Ritu Nalubola, Center for Food Safety and Applied Nutrition (HFS-820), Food and Drug Administration, 5100 Paint Branch Pkwy., College Park, MD 20740, 301-436-2371.

SUPPLEMENTARY INFORMATION: In accordance with 21 CFR 130.17 concerning temporary permits to facilitate market testing of foods deviating from the requirements of the standards of identity issued under section 401 of the Federal Food, Drug, and Cosmetic Act (21 U.S.C. 341), FDA is giving notice that a temporary permit has been issued to Peter Pan Seafoods, Inc., 2200 Sixth Ave., suite 1000, Seattle, WA 98121.

The permit covers limited interstate marketing tests of products identified as (1) Deming's “Skinless & Boneless Pink Salmon” and “Skinless & Boneless Red Sockeye Salmon” and (2) Double“Q” “Skinless & Boneless Pink Salmon” and “Skinless & Boneless Red Sockeye Salmon.” These canned salmon products may deviate from the U.S. standard of identity for canned Pacific salmon (21 CFR 161.170) in that the products are prepared by removing the skin and bones of the salmon used and, therefore, in lieu of the optional forms of pack provided in 21 CFR 161.170(a)(3), this temporary marketing permit provides for an alternate “skinless and boneless” form of pack. The test product meets all the requirements of the standard with the exception of the “skinless and boneless” form of pack. The purpose of the temporary permit is to allow the applicant to measure consumer acceptance of the product, identify mass production problems, and assess commercial feasibility.

This permit provides for the temporary marketing of not more than 1.13 million pounds (or 513 thousand kilograms) of the test product annually. The test products will be manufactured by Peter Pan Seafoods, Inc., at its Valdez Facility, P.O. Box 1027, Valdez, AK 99686-1027 and Dillingham Facility, P.O. Box 410, Dillingham, AK 99576. The test products will be distributed by Peter Pan Seafoods, Inc., throughout the United States except Alaska. The information panel of the labels will bear nutrition labeling in accordance with 21 CFR 101.9. Each of the ingredients used in the food must be declared on the labels as required by the applicable sections of 21 CFR part 101. This permit is effective for 15 months, beginning on the date the permit holder introduces or causes the introduction of the product into interstate commerce, but not later than July 27, 2007.

Dated: April 20, 2007.
Barbara Schneeman,
Director, Office of Nutritional Products, Labeling and Dietary Supplements, Center for Food Safety and Applied Nutrition.

[FR Doc. E7-8039 Filed 4-27-07; 8:45 am]

BILLING CODE 4160-01-S